ENVIRONMENTAL PROTECTION AGENCY

40 CFR Part 180

[EPA-HQ-OPP-2006-0400; FRL-8068-5]

Pesticide Inert Ingredient Tolerance Exemptions with Insufficient Data for Reassessment; Notice of Public Meeting

AGENCY: Environmental Protection Agency (EPA).

ACTION: Public meetings.

SUMMARY: EPA will hold two identical public meetings on Tuesday, May 23, 2006, on the Agency's proposed action on pesticide inert ingredient tolerance exemptions that lack sufficient toxicity data to make the determination of safety for human health required by the Federal Food, Drug, and Cosmetic Act (FFDCA). During the public meetings, EPA will review its reassessment progress for inert ingredients, describe the Agency's data finding efforts, discuss data needs and the screening level studies that may suffice, and other topics that may prove useful to those who are considering developing data in support of these inert ingredients.

DATES: Two identical meetings will be held on Tuesday, May 23, 2006, with the first meeting from 9-11 a.m. and the second from 1-3 p.m. In order to ensure adequate space for attendees, the Agency requests an RSVP from those who are interested in attending the public meetings. Please RSVP to the contact person identified under FOR FURTHER INFORMATION CONTACT and indicate whether you prefer the morning or afternoon meeting and the number of attendees in your group.

ADDRESSES: The location of both meetings is the Office of Pesticide Program's new office building located at One Potomac Yard, 2777 S. Crystal Drive, Arlington, VA, 22202.

FOR FURTHER INFORMATION CONTACT: Karen Angulo, Registration Division (7505P), Office of Pesticide Programs, Environmental Protection Agency, 1200 Pennsylvania Ave., NW., Washington, DC 20460-0001; telephone number: (703) 306-0404; e-mail address: angulo.karen@epa.gov.

SUPPLEMENTARY INFORMATION:

I. General Information

A. Does this Action Apply to Me?

You may be potentially affected by this action if you are an agricultural producer, food manufacturer, or pesticide manufacturer. Potentially affected entities may include, but are not limited to:

• Crop production (NAICS code 111).

• Animal roduction (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions in Unit II. If you have any questions regarding the applicability of this action to a particular entity, consult the person listed under FOR FURTHER INFORMATION CONTACT.

B. How Can I Get Copies of this Document and Other Related Information?

1. Docket. EPA has established a docket for this action under docket identification (ID) number EPA-HQ-OPP-2006-0400. Publicly available docket materials are available either in the electronic docket at http://www.regulations.gov, or, if only available in hard copy, at the Office of Pesticide Programs (OPP) Regulatory Public Docket in Rm. S-4400, One Potomac Yard (South Building), 2777 S. Crystal Drive Arlington, VA. The hours of operation of this Docket Facility are from 8:30 a.m. to 4 p.m., Monday through Friday, excluding legal holidays. The Docket telephone number is (703) 305-5805.

2. Electronic access You may access this Federal Register document electronically through the EPA Internet under the “Federal Register” listings at http://www.epa.gov/fedrgstr.

II. Background

EPA is holding two identical public meetings about the proposed action on inert ingredient tolerance exemptions with insufficient data for reassessment under FFDCA. The Agency is unable to make a FFDCA safety finding because basic toxicology studies are not currently available. EPA is proposing to revoke the tolerance exemptions and make them expire 2 years from the publication of the final rule to allow for data development. During both identical public meetings, EPA will review its reassessment progress for inert ingredients, describe the Agency's data finding efforts, discuss data needs and the screening level studies that may suffice, and other topics that may prove useful to those who are considering developing data in support of these inert ingredients. The formal announcement of this proposed rule appears elsewhere in this issue of the Federal Register.

Both identical public meetings will be held on Tuesday, May 23, 2006, at the Office of Pesticide Program's new office building. The first meeting will be held from 9-11 a.m. and the second meeting will be from 1-3 p.m. In order to ensure adequate space for attendees, the Agency requests an RSVP from those who are interested in attending the public meetings. Please RSVP to the contact person identified under FOR FURTHER INFORMATION CONTACT and indicate whether you prefer the morning or afternoon meeting and the number of attendees in your group.

List of Subjects in 40 CFR Part 180

Environmental protection, Administrative practice and procedure, Agricultural commodities, Pesticides and pests, Reporting and recordkeeping requirements.

Dated: April 27, 2006.
Lois Rossi,
Director, Registration Division, Office of Pesticide Programs.

[FR Doc. 06-4163 Filed 5-2-06; 8:45 am]

BILLING CODE 6560-50-S